COMMITTEE FOR PURCHASE FROM PEOPLE WHO ARE BLIND OR SEVERELY DISABLED

Procurement List; Proposed Additions and Deletions

AGENCY: Committee for Purchase From People Who Are Blind or Severely Disabled.

ACTION: Proposed additions to and deletions from the Procurement List.

SUMMARY: The Committee is proposing to add products to the Procurement List that will be furnished by nonprofit agencies employing persons who are blind or have other severe disabilities, and delete product(s) previously furnished by such agencies.

DATES: Comments must be received on or before: March 14, 2026.

ADDRESSES: Committee for Purchase From People Who Are Blind or Severely Disabled, 355 E Street SW, Suite 325, Washington, DC 20024.

FOR FURTHER INFORMATION CONTACT: For further information or to submit comments contact: Michael R. Jurkowski, Telephone: (703) 489-1322, or email CMTEFedReg@AbilityOne.gov.

SUPPLEMENTARY INFORMATION: This notice is published pursuant to 41 U.S.C. 8503 (a)(2) and 41 CFR 51-2.3. Its purpose is to provide interested persons an opportunity to submit comments on the proposed actions.

Additions

In accordance with 41 CFR 51-2.4(b), Government personnel within the contracting activity have identified the product listed below as a requirement not applicable to other Federal entities and has requested the Committee consider granting a purchase or distribution preference if the product is added to the Procurement List. See 71 FR 69536 (Dec. 1, 2006). If the Committee grants this request, the product will not be available through the U.S. AbilityOne Commission's Commercial Distribution Program. The Committee will consider this request along with relevant comments received from interested parties.

The following product(s) are proposed for addition to the Procurement List for production by the nonprofit agencies listed:

Product(s)

NSN(s)—Product Name(s)

1095-01-619-0636—Knife, Combat, Drop Point, Automatic

1095-01-609-1271—Knife, Combat, Drop Point, Black

Authorized Source of Supply: DePaul Industries, Portland, OR

Mandatory For: DEPT OF DEFENSE

Contracting Activity: DEPT OF DEFENSE, DLA LAND AND MARITIME

The following product(s) are proposed for deletion from the Procurement List:

Product(s)

NSN(s)—Product Name(s)

7520-01-431-6243—Punch Head Replacement, 13/32″, Beige

7520-01-431-6245—Punch Head Replacement, 13/32″, Black

7520-01-431-6248—Punch Head Replacement, 13/32″, Gray

7520-01-431-6250—Punch Head Replacement, 9/32″, Black

Mandatory For: Total Government Requirement

Contracting Activity: GENERAL SERVICES ADMINISTRATION, GSA/FAS ADMIN SVCS ACQUISITION BR(2

Michael R. Jurkowski,
Director, Business Operations.

[FR Doc. 2026-02820 Filed 2-11-26; 8:45 am]

BILLING CODE 6353-01-P